DEPARTMENT OF ENERGY

10 CFR Part 430

[Docket No. EERE-2010-BT-TP-0038]

Test Procedures for Central Air Conditioners and Heat Pumps: Public Meeting

AGENCY: Office of Energy Efficiency and Renewable Energy, U.S. Department of Energy.

ACTION: Notice of public meeting.

SUMMARY: The U.S. Department of Energy (DOE) is holding a public meeting to discuss methodologies and gather comments on testing residential central air conditioners and heat pumps designed to use hydrochlorofluorocarbon-22 (R-22) refrigerant.

DATES: DOE will hold a public meeting on Tuesday, February 14, 2012, from 3 p.m. to 5 p.m. in Washington, DC. Additionally, DOE plans to conduct the public meeting via webinar. To participate via webinar, participants must sign up by following the instructions in the Web site. Registration information, participant instructions, and information about the capabilities available to webinar participants will be published on the following Web site https://www1.gotomeeting.com/register/141337089. Participants are responsible for ensuring that their systems are compatible with the webinar software.

ADDRESSES: The public meeting will be held at the U.S. Department of Energy, Forrestal Building, Room 8E-089, 1000 Independence Avenue SW., Washington, DC 20585-0121. To attend, please notify Ms. Brenda Edwards at (202) 586-2945. Please note that foreign nationals visiting DOE Headquarters are subject to advance security screening procedures. Any foreign national wishing to participate in the public meeting should advise DOE as soon as possible by contacting Ms. Brenda Edwards at (202) 586-2945 to initiate the necessary procedures.

Docket: The docket is available for review at www.regulations.gov. All documents in the docket are listed in the www.regulations.gov index. However, not all documents in the index may be publicly available, such as information that is exempt from public disclosure. A link to the docket web page can be found at www.regulations.gov. The www.regulations.gov web page contains a link to the docket for this notice, along with simple instructions on how to access all documents, including public comments, in the docket.

FOR FURTHER INFORMATION CONTACT: Ashley Armstrong, U.S. Department of Energy, Office of Energy Efficiency and Renewable Energy, Building Technologies, EE-2J, 1000 Independence Avenue SW., Washington, DC 20585-0121. Phone: (202) 586-6590. Email: Ashley.Armstrong@ee.doe.gov or Elizabeth Kohl, U.S. Department of Energy, Office of General Counsel, GC-72, 1000 Independence Avenue SW., Washington, DC 20585-0121. Phone: (202) 586-7796. Email: Elizabeth.Kohl@hq.doe.gov.

SUPPLEMENTARY INFORMATION: Title III, Part B of the Energy Policy and Conservation Act of 1975 (EPCA or the Act), Public Law 94-163 (42 U.S.C. 6291-6309, as codified), established the Energy Conservation Program for Consumer Products Other Than Automobiles, a program covering most major household appliances, including the residential central air conditioners and heat pumps that are single phase with rated cooling capacities less than 65,000 British thermal units per hour (Btu/h) that are the focus of this notice.¹ (42 U.S.C. 6291(1)-(2), (21) and 6292(a)(3))

¹ For editorial reasons, upon codification in the U.S. Code, Part B was re-designated Part A.

Under EPCA, the program consists of four activities: (1) Testing; (2) labeling; and (3) Federal energy conservation standards, and also (4) certification, compliance, and enforcement. The testing requirements consist of test procedures that manufacturers of covered products must use as the basis for certifying to DOE that their products comply with applicable energy conservation standards adopted pursuant to EPCA and for representing the efficiency of those products. (42 U.S.C. 6293(c); 42 U.S.C. 6295(s)) Similarly, DOE must use these test procedures in any enforcement action to determine whether covered products comply with these energy conservation standards. (42 U.S.C. 6295(s))

DOE's existing test procedures for residential central air conditioners and heat pumps adopted pursuant to these provisions appear under Title 10 of the Code of Federal Regulations (CFR) part 430, subpart B, appendix M (“Uniform Test Method for Measuring the Energy Consumption of Central Air Conditioners and Heat Pumps”). These procedures establish the currently permitted means for determining energy efficiency and annual energy consumption of these products.

DOE regulations require that residential split system central air conditioners and heat pumps be tested using “the evaporator coil that is likely to have the largest volume of retail sales with the particular model of condensing unit.” 10 CFR 430.24(m)(2). Effective January 1, 2010, the U.S. Environmental Protection Agency (EPA) banned the sale and distribution of those central air conditioning systems and heat pump systems manufactured after January 1, 2010, that are designed to use R-22 refrigerant. 74 FR 66450 (Dec. 15, 2009). EPA's rulemaking included an exception for the manufacture and importation of replacement components, as long as those components are not pre-charged with R-22. Id. at 66459-66460. In light of EPA's rulemaking, DOE received numerous inquiries regarding the sale of R-22 systems and the applicability of our regulations with respect to these types of systems.

Because complete R-22 systems can no longer be distributed per EPA's regulations, manufacturers inquired how to test and rate condensing units and outdoor units using R-22 refrigerant. DOE has issued two guidance documents surrounding testing central air conditioner and heat pump systems utilizing R-22 refrigerant. See http://www1.eere.energy.gov/guidance/default.aspx?pid=2&spid=1 for additional information. The Department is holding this public meeting and webinar to gather information on the testing of central air conditioners and heat pumps designed to use R-22. Among other things, DOE seeks information on the characteristics of the coil-only indoor unit for testing and rating purposes to satisfy the requirement that the highest volume sales unit combination be tested. 10 CFR 429.16(a)(2)(ii).

DOE will conduct the public meeting in an informal, facilitated, conference style. There shall be no discussion of proprietary information, costs or prices, market shares, or other commercial matters regulated by U.S. antitrust laws. A court reporter will record the minutes of the meeting, after which a transcript will be available for purchase from the court reporter and placed on the DOE Web site.

Anyone who wishes to participate in the public meeting, receive meeting materials, or be added to the DOE mailing list to receive future notices and information about wine chillers and miscellaneous refrigeration products should contact Ms. Brenda Edwards at (202) 586-2945.

Issued in Washington, DC, on February 7, 2012.
Kathleen Hogan,
Deputy Assistant Secretary, Energy Efficiency and Renewable Energy.

[FR Doc. 2012-3375 Filed 2-13-12; 8:45 am]

BILLING CODE 6450-01-P